DEPARTMENT OF HOMELAND SECURITY

Coast Guard

[Docket Number USCG-2025-0249]

Imposition of Conditions of Entry for Vessels Arriving to the United States From the Republic of Suriname

AGENCY: Coast Guard, DHS.

ACTION: Notice.

SUMMARY: The Coast Guard announces that it will impose conditions of entry on vessels arriving from the Republic of Suriname. Conditions of entry are intended to protect the United States from vessels arriving from foreign ports or places that have been found to have ineffective antiterrorism measures.

DATES: The policy announced in this notice is effective on September 17, 2025.

FOR FURTHER INFORMATION CONTACT: For information about this document please contact Mr. Edward Munoz, Division Chief of International Port Security Program, USCG, at email HQS-DG-IPSProgramHQs@uscg.mil or call 202-372-2122.

SUPPLEMENTARY INFORMATION:

Background and Purpose

The authority for this notice is 5 U.S.C. 552(a), 46 U.S.C. 70110 (“Maritime Transportation Security Act”), and Department of Homeland Security Delegation No. 00170.1(II)(97.f), Revision No. 01.4. As delegated, 46 U.S.C. 70110(a) authorizes the Coast Guard to impose conditions of entry on vessels arriving in U.S. waters from foreign ports that the Coast Guard has not found to maintain effective antiterrorism measures. The Coast Guard has determined that Suriname does not have effective antiterrorism measures in its ports.

With this notice, the current list of countries assessed and not maintaining effective antiterrorism measures is as follows: Cambodia, Cameroon, Comoros, Cuba, Democratic People's Republic of Korea (North Korea), Equatorial Guinea, Gambia (The), Guinea-Bissau, Iran, Iraq, Libya, Madagascar, Micronesia (Federated States of), Nauru, Nigeria, Sao Tome and Principe, Seychelles, Sudan, Suriname, Syria, Timor-Leste, Venezuela, and Yemen. The current Port Security Advisory is available at: https://www.dco.uscg.mil/Our-Organization/Assistant-Commandant-for-Prevention-Policy-CG-5P/Inspections-Compliance-CG-5PC-/Domestic-International-Port-Security-Assessments-CG-PSA/International-Port-Security-Program/International-Port-Security-Program-Port-Security-Advisory/.

Shannon N. Gilreath,
Rear Admiral, Acting Deputy Commandant for Operations, U.S. Coast Guard.

[FR Doc. 2025-16845 Filed 9-2-25; 8:45 am]

BILLING CODE 9110-04-P